DEPARTMENT OF TRANSPORTATION

Federal Aviation Administration

14 CFR Part 39

[Docket No. FAA-2005-21862; Directorate Identifier 2005-NM-091-AD; Amendment 39-14333; AD 2005-20-36]

RIN 2120-AA64

Airworthiness Directives; Airbus Model A320-111 Airplanes; and Model A320-200, A321-100, and A321-200 Series Airplanes

AGENCY: Federal Aviation Administration (FAA), Department of Transportation (DOT).

ACTION: Final rule.

SUMMARY: The FAA is adopting a new airworthiness directive (AD) for certain Airbus Model A320-111 airplanes; and Model A320-200, A321-100, and A321-200 series airplanes. This AD requires installing a bonding lead between the low pressure valve and the adjacent pipe assembly in each wing. This AD results from fuel system reviews conducted by the manufacturer. We are issuing this AD to prevent an ignition source for fuel vapor in the wing, which could result in fire or explosion in the adjacent wing fuel tank.

DATES: This AD becomes effective November 16, 2005.

The Director of the Federal Register approved the incorporation by reference of a certain publication listed in the AD as of November 16, 2005.

ADDRESSES: You may examine the AD docket on the Internet at http://dms.dot.gov or in person at the Docket Management Facility, U.S. Department of Transportation, 400 Seventh Street SW., Nassif Building, room PL-401, Washington, DC.

Contact Airbus, 1 Rond Point Maurice Bellonte, 31707 Blagnac Cedex, France, for service information identified in this AD.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Airbus Model A320-111 airplanes; and Model A320-200, A321-100, and A321-200 series airplanes. That NPRM was published in the Federal Register on July 19, 2005 (70 FR 41352). That NPRM proposed to require installing a bonding lead between the low pressure valve and the adjacent pipe assembly in each wing.

Comments

We provided the public the opportunity to participate in the development of this AD. We have considered the comment received.

Request to Allow Credit for Use of Original Issue of Service Bulletin

One commenter requests that we give credit for actions accomplished prior to the effective date of the AD using Airbus Service Bulletin A320-28-1055, dated July 12, 1993. The commenter contends that such credit is permitted by French airworthiness directive F-2005-058, dated April 13, 2005.

We agree with this request. We have reviewed the original issue of the service bulletin and determined that no significant technical changes were made in the issuance of Airbus Service Bulletin A320-28-1055, Revision 1, dated March 8, 1994. Therefore, we have added new paragraph (g) to give credit as specified and re-identified existing paragraphs (g) and (h) to (h)(1) and (i) in this AD.

Clarification of Alternative Method of Compliance (AMOC) Paragraph

We have revised this action to clarify the appropriate procedure for notifying the principal inspector before using any approved AMOC on any airplane to which the AMOC applies.

Conclusion

We have carefully reviewed the available data, including the comment received, and determined that air safety and the public interest require adopting the AD with the changes described previously. We have determined that these changes will neither increase the economic burden on any operator nor increase the scope of the AD.

Costs of Compliance

This AD will affect about 403 airplanes of U.S. registry. The required actions will take about 2 work hours per airplane, at an average labor rate of $65 per work hour. Required parts will be obtained from operator stores. Based on these figures, the estimated cost of the AD for U.S. operators is $52,390, or $130 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-20-36 Airbus: Amendment 39-14333. Docket No. FAA-2005-21862; Directorate Identifier 2005-NM-091-AD.

Effective Date

(a) This AD becomes effective November 16, 2005.

Affected ADs

(b) None.

Applicability

(c) This AD applies to Airbus Model A320-111, -211, -212, -214, -231, -232, and -233 airplanes, and Model A321-111, -112, -131, -211, and -231 airplanes, certificated in any category; except those airplanes on which Airbus Modification 23645 has been incorporated in production.

Unsafe Condition

(d) This AD was prompted by the results of fuel system reviews conducted by the manufacturer. We are issuing this AD to prevent an ignition source for fuel vapor in the wing, which could result in fire or explosion in the adjacent wing fuel tank.

Compliance

(e) You are responsible for having the actions required by this AD performed within the compliance times specified, unless the actions have already been done.

Installation of Bonding Lead

(f) Within 56 months after the effective date of this AD, install a bonding lead between the low pressure valve and the adjacent pipe assembly in each wing, in accordance with the Accomplishment Instructions of Airbus Service Bulletin A320-28-1055, Revision 1, dated March 8, 1994.

Actions Accomplished Using Original Issue of Service Bulletin

(g) Actions accomplished prior to the effective date of this AD in accordance with Airbus Service Bulletin A320-28-1055, dated July 12, 1993, are considered acceptable for compliance with the corresponding actions required by paragraph (f) of this AD.

Alternative Methods of Compliance (AMOCs)

(h)(1) The Manager, International Branch, ANM-116, Transport Airplane Directorate, FAA, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Related Information

(i) French airworthiness directive F-2005-058, dated April 13, 2005, also addresses the subject of this AD.

Material Incorporated by Reference

(j) You must use Airbus Service Bulletin A320-28-1055, Revision 1, dated March 8, 1994, to perform the actions that are required by this AD, unless the AD specifies otherwise. The Director of the Federal Register approved the incorporation by reference of this document in accordance with 5 U.S.C. 552(a) and 1 CFR part 51. Contact Airbus, 1 Rond Point Maurice Bellonte, 31707 Blagnac Cedex, France, for a copy of this service information. You may review copies at the Docket Management Facility, U.S. Department of Transportation, 400 Seventh Street SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on September 28, 2005.
Kalene C. Yanamura,
Acting Manager, Transport Airplane Directorate, Aircraft Certification Service.

[FR Doc. 05-20067 Filed 10-11-05; 8:45 am]

BILLING CODE 4910-13-P